DEPARTMENT OF DEFENSE

Office of the Secretary

Strategic Advisory Group Meeting of the U.S. Strategic Command

AGENCY: Department of Defense, USSTRATCOM.

ACTION: Notice of closed meeting.

SUMMARY: The Strategic Advisory Group (SAG) will meet in a closed session on April 22 and 23, 2003. The mission of the SAG is to provide timely advice on scientific, technical, intelligence, and policy-related issues to the Commander, U.S. Strategic Command during the development of the Nation's war plans. Full development of the topics will require discussion of information classified in accordance with Executive Order 12958, dated April 17, 1995. Access to this information must be strictly limited to personnel having the requisite security clearances and specific need-to-know. Unauthorized disclosure of the information to be discussed at the SAG meeting could have exceptionally grave impact on national defense.

In accordance with section 10(d) of the Federal Advisory Committee Act (5 U.S.C., section 552b(c)), this meeting will be closed.

DATES: April 22 and 23, 2004.

ADDRESSES: USSTRATCOM, 901 SAC Boulevard, Suite 1F7, Offutt Air Force Base, NE 68113-6030.

FOR FURTHER INFORMATION CONTACT: Connie Druskis, SAG, (402) 294-4102.

SUPPLEMENTARY INFORMATION: Jerome Mahar, Joint Staff, (703) 614-6465.

Dated: March 17, 2004.
L.M. Bynum,
Alternate OSD Federal Register Liaison Officer, Department of Defense.

[FR Doc. 04-6391 Filed 3-22-04; 8:45 am]

BILLING CODE 5001-06-M